DEPARTMENT OF DEFENSE

Department of the Army

Availability for Non-Exclusive, Exclusive, or Partially Exclusive Licensing of U.S. Patent Application Concerning Electronic Drink-O-Meter To Monitor Fluid Intake and Provide Consumption Guidance.

AGENCY: Department of the Army, DoD.

ACTION: Notice.

SUMMARY: In accordance with 37 CFR 404.6, announcement is made of the availability for licensing of U.S. Patent Application No. 09/812,271 entitled “Electronic Drink-O-Meter to monitor Fluid Intake and Provide Consumption Guidance” filed March 19, 2001. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: An apparatus for monitoring fluid intake includes a bladder having a known volume and capable of holding fluid, the bladder having a fill opening and an extraction opening; a first section of tubing connected to the extraction opening; a fluid monitoring unit having a downstream end and an upstream end, the first section of tubing being connected to the fluid monitoring unit at the downstream end; a check valve disposed at the upstream end of the fluid monitoring unit; a second section of tubing connected to the check valve; and a bite valve connected to an end of the second section of tubing.

Luz D. Ortiz,
Army Federal Register Liaison Officer.

[FR Doc. 02-3084 Filed 2-7-02; 8:45 am]

BILLING CODE 3710-08-M